NUCLEAR REGULATORY COMMISSION

Proposed Generic Communication; Managing Gas Intrusion in Emergency Core Cooling, Decay Heat Removal, and Containment Spray Systems

Correction

In notice document 07-2557 beginning on page 29010 in the issue of Wednesday, May 23, 2007, make the following correction:

On page 29010, in the second column, in the third paragraph, in the last line, “ML0704001003” should read “ML070400103”.

[FR Doc. C7-2557 Filed 6-18-07; 8:45 am]

BILLING CODE 1505-01-D

DEPARTMENT OF THE TREASURY

Internal Revenue Service

26 CFR Part 1

[REG-123365-03]

RIN 1545-BC94

Guidance Regarding the Active Trade or Business Requirement under Section 355(b)

Correction

In proposed rule document 07-2269 beginning on page 26012 in the issue of Tuesday, May 8, 2007, make the following corrections:

1. On page 26016, in the third column, in the first paragraph, in the next to last line, ““solely in” should read “‘solely in”.

2. On page 26020, in the third column, in the first paragraph, in the next to last line, “moot” should read “boot”.

§ 1.355-3 [Corrected]

3. On page 26033, in the second column, in § 1.355-3(d)(2), in Example 24, in the second line, “Example 23” should read “Example 23”.

4. On page 26034, in the first column, in the same section, in Example 29, in the third line, “Example 28” should read “Example 28”.

[FR Doc. C7-2269 Filed 6-18-07; 8:45 am]

BILLING CODE 1505-01-D